DEPARTMENT OF LABOR

Mine Safety and Health Administration

[OMB Control No. 1219-0046]

Proposed Information Collection; Escape and Evacuation Plans (Pertains to Underground Metal and Nonmetal Mines)

AGENCY: Mine Safety and Health Administration, Labor.

ACTION: Request for public comments.

SUMMARY: The Department of Labor, as part of its continuing effort to reduce paperwork and respondent burden, conducts a pre-clearance consultation program to provide the general public and Federal agencies with an opportunity to comment on proposed collections of information in accordance with the Paperwork Reduction Act of 1995, 44 U.S.C. 3506(c)(2)(A). This program helps to assure that requested data can be provided in the desired format, reporting burden (time and financial resources) is minimized, collection instruments are clearly understood, and the impact of collection requirements on respondents can be properly assessed. Currently, the Mine Safety and Health Administration (MSHA) is soliciting comments on Escape and Evacuation Plans, 30 CFR 57.11053.

DATES: All comments must be submitted on or before April 28, 2014.

ADDRESSES: Comments concerning the information collection requirements of this notice may be sent by any of the methods listed below.

• Federal E-Rulemaking Portal: http://www.regulations.gov. Follow the online instructions for submitting comments for docket number [MSHA-2013-0045].

• Regular Mail: Send comments to MSHA, Office of Standards, Regulations, and Variances, 1100 Wilson Boulevard, Room 2350, Arlington, VA 22209-3939.

• Hand Delivery: MSHA, 1100 Wilson Boulevard, Room 2350, Arlington, VA. Sign in at the receptionist's desk on the 21st floor.

FOR FURTHER INFORMATION CONTACT: Sheila McConnell, Acting Director, Office of Standards, Regulations, and Variances, MSHA, at MSHA.information.collections@dol.gov (email); 202-693-9440 (voice); or 202-693-9441 (facsimile).

SUPPLEMENTARY INFORMATION:

I. Background

Section 103(h) of the Federal Mine Safety and Health Act of 1977 (Mine Act), 30 U.S.C. 813, authorizes MSHA to collect information necessary to carry out its duty in protecting the safety and health of miners.

Title 30 of the Code of Federal Regulations (30 CFR) 57.11053 requires the development of an escape and evacuation plan specifically addressing the unique conditions of each underground metal and nonmetal mine. Section 57.11053 also requires that revisions be made as mining progresses. The plan must be available to representatives of the Mine Safety and Health Administration (MSHA) and conspicuously posted at locations convenient to all persons on the surface and underground. The mine operator and MSHA are required to jointly review the plan at least once every six months.

The following information is required with each escape and evacuation plan submission:

(1) Mine maps or diagrams showing directions of principal air flow, location of escape routes, and locations of existing telephones, primary fans, primary fan controls, fire doors, ventilation doors, and refuge chambers;

(2) Procedures to show how the miners will be notified of an emergency;

(3) An escape plan for each working area in the mine, including instructions showing how each working area should be evacuated;

(4) A firefighting plan;

(5) Surface procedures to be followed in an emergency, including the notification of proper authorities and the preparation of rescue equipment and other equipment which may be used in rescue and recovery operations; and

(6) A statement of the availability of emergency communication and transportation facilities, emergency power, and ventilation, and the location of rescue personnel and equipment.

II. Desired Focus of Comments

MSHA is soliciting comments concerning the proposed information collection related to Escape and Evacuation Plans, 30 CFR 57.11053. MSHA is particularly interested in comments that:

• Evaluate whether the collection of information is necessary for the proper performance of the functions of the agency, including whether the information has practical utility;

• Evaluate the accuracy of the MSHA's estimate of the burden of the collection of information, including the validity of the methodology and assumptions used;

• Suggest methods to enhance the quality, utility, and clarity of the information to be collected; and

• Minimize the burden of the collection of information on those who are to respond, including through the use of appropriate automated, electronic, mechanical, or other technological collection techniques or other forms of information technology, e.g., permitting electronic submission of responses.

This information collection request is available on http://www.msha.gov/regs/fedreg/informationcollection/informationcollection.asp. The information collection request will be available on MSHA's Web site and on http://www.regulations.gov. MSHA cautions the commenter against providing any information in the submission that should not be publicly disclosed. Full comments, including personal information provided, will be made available on www.regulations.gov and www.reginfo.gov.

The public may also examine publicly available documents at MSHA, 1100 Wilson Boulevard, Room 2350, Arlington, VA. Sign in at the receptionist's desk on the 21st floor. Questions about the information collection requirements may be directed to the person listed in the FOR FURTHER INFORMATION CONTACT section of this notice.

III. Current Actions

This request for collection of information contains provisions for Escape and Evacuation Plans, 30 CFR 57.11053. MSHA has updated the data in respect to the number of respondents, responses, burden hours, and burden costs supporting this information collection request.

Type of Review: Extension, without change, of a currently approved collection.

Agency: Mine Safety and Health Administration.

OMB Number: 1219-0046.

Affected Public: Business or other for-profit.

Number of Respondents: 251.

Frequency: On occasion.

Number of Responses: 502.

Annual Burden Hours: 4,267 hours.

Annual Respondent or Recordkeeper Cost: $2,510.

Comments submitted in response to this notice will be summarized and included in the request for Office of Management and Budget approval of the information collection request; they will also become a matter of public record.

Dated: February 21, 2014.
Patricia W. Silvey,
Certifying Officer.

[FR Doc. 2014-04250 Filed 2-26-14; 8:45 am]

BILLING CODE 4510-43-P